DEPARTMENT OF LABOR

Employment and Training Administration

[NAFTA-03980]

Morton Forest Products a.k.a. Tree Source, Morton, Washington; Notice of Revised Determination on Reconsideration

On August 18, 2000, the Department issued a Negative Determination Regarding Eligibility to apply for NAFTA-TAA, applicable to workers and former workers of Morton Forest Products, a.k.a. Tree Source, located in Morton, Washington. The notice was published in the Federal Register on September 12, 2000 (65 FR 55050).

By letter of September 20, 2000, the company requested administrative reconsideration regarding the Department's denial of NAFTA-TAA for workers of the subject firm. Workers at Morton Forest Products, located in Morton, Washington, were engaged in the manufacture of stud lumber. The company claimed that the Department did not survey sufficient customers and provided a list of additional customers of stud lumber.

The initial determination was based on customer surveys which indicated that imports did not contribute importantly to the worker separations at Morton Forest Products. On reconsideration, the Department surveyed additional customers. The results of the additional customer survey revealed that two major customers of the subject firm increased their reliance on purchases of imported stud lumber from Canada while reducing purchases of domestically manufactured stud lumber.

Conclusion

After careful review of the additional facts obtained on reconsideration, I conclude that there were increased imports from Canada of articles like or directly competitive with those produced by the subject firm. In accordance with the provisions of the Trade Act, I make the following certification:

All workers of Morton Forest Products, a.k.a. Tree Source, located in Morton, Washington engaged in employment related to the production of stud lumber who became totally or partially separated from employment on or after June 16, 1999 through two years from the issuance of this revised determination are eligible to apply for NAFTA-TAA under Section 250 of the Trade Act of 1974.

Signed in Washington, DC this 19th day of October 2000.
Linda G. Poole,
Certifying Officer, Division of Trade Adjustment Assistance.

[FR Doc. 00-28028 Filed 10-31-00; 8:45 am]

BILLING CODE 4510-30-M